DEPARTMENT OF AGRICULTURE

Animal and Plant Health Inspection Service

[Docket No. 01-052-1]

Notice of Request for Extension of a Currently Approved Information Collection

AGENCY: Animal and Plant Health Inspection Service, USDA.

ACTION: Extension of approval of an information collection; comment request.

SUMMARY: In accordance with the Paperwork Reduction Act of 1995, this notice announces the Animal and Plant Health Inspection Service's intention to request an extension of a currently approved information collection in support of regulations allowing the importation of wheat seed, straw, and other products from the Mexicali Valley of Mexico into the United States.

DATES: We invite you to comment on this docket. We will consider all comments that we receive by September 10, 2001.

ADDRESSES: Please send four copies of your comment (an original and three copies) to: Docket No. 01-052-1, Regulatory Analysis and Development, PPD, APHIS, Suite 3C03, 4700 River Road, Unit 118, Riverdale, MD 20737-1238. Please state that your comment refers to Docket No. 01-052-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the regulations allowing the importation of wheat seed, straw, and other products from the Mexicali Valley of Mexico into the United States, contact Mr. Wayne W. Burnett, Senior Import Specialist, Phytosanitary Issues Management Staff, Plant Protection and Quarantine, APHIS, 4700 River Road Unit 134, Riverdale, MD 20737-1236; (301) 734-6799. For copies of more detailed information on the information collection, contact Mrs. Celeste Sickles, APHIS' Information Collection Coordinator, at (301) 734-7477.

SUPPLEMENTARY INFORMATION: Title: Mexicali Valley, Karnal Bunt.

OMB Number: 0579-0132.

Type of Request: Extension of a currently approved information collection.

Abstract: The United States Department of Agriculture (USDA) is responsible for preventing plant pests from entering the United States and controlling and eradicating plant pests in the United States. The Plant Protection Act authorizes the Department to carry out this mission. The Plant Protection and Quarantine (PPQ) program of USDA's Animal and Plant Health Inspection Service is responsible for implementing the regulations that carry out the intent of this Act.

To prevent the introduction and spread of various wheat diseases, including Karnal bunt, a fungal disease, the regulations in “Subpart—Wheat Diseases” (7 CFR 319.59 through 319.59-2) prohibit the importation of wheat seed, straw, and other products into the United States from certain parts of the world. Section 319.59-2(b)(3) recognizes a wheat-growing area within the Mexicali Valley of Mexico as being free from Karnal bunt and allows wheat seed, straw, and other products from the Mexicali Valley to be imported into the United States under specified conditions.

Because the remainder of Mexico is not designated as free of Karnal bunt, we require that a phytosanitary certificate accompany seed, straw, and other products imported from the Karnal bunt free area of the Mexicali Valley. The certificate is issued by the Mexican national plant protection organization and states that the wheat or wheat-related articles were grown in the designated Karnal bunt free area of the Mexicali Valley and remained in the Mexicali Valley prior to and during their movement to the United States.

We are asking the Office of Management and Budget (OMB) to approve our continued use of these information collections for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.2 hours per response.

Respondents: Mexican plant health authorities and growers and exporters of wheat products in the Mexicali Valley, Mexico.

Estimated annual number of respondents: 20.

Estimated annual number of responses per respondent: 5.

Estimated annual number of responses: 100.

Estimated total annual burden on respondents: 120 hours. (Due to averaging, the total annual burden hours may not equal the product of the annual number of responses multiplied by the reporting burden per response.)

All responses to this notice will be summarized and included in the request for OMB approval. All comments will also become a matter of public record.

Done in Washington, DC, this 6th day of July 2001.
Bobby R. Acord,
Acting Administrator, Animal and Plant Health Inspection Service.

[FR Doc. 01-17442 Filed 7-11-01; 8:45 am]

BILLING CODE 3410-34-U